COMMISSION ON CIVIL RIGHTS

Agenda and Notice of Public Meeting of the Arizona Advisory Committee

Notice is hereby given, pursuant to the provisions of the rules and regulations of the U.S. Commission on Civil Rights (Commission), and the Federal Advisory Committee Act (FACA), that two meetings of the Arizona Advisory Committee (Committee) to the Commission will be held on Wednesday, January 4, 2012, at the Harmon Library, 1325 S. 5th Avenue, Phoenix, AZ 85003. The first meeting is administrative in purpose and will convene at 1 p.m. and adjourn at approximately 2 p.m.; the purpose of the administrative meeting is for members of the newly chartered Committee to receive orientation and ethics training. The second meeting is planning in purpose and will convene at 2 p.m. and adjourn at approximately 3:30 p.m.; the purpose of the planning meeting is for the Committee to plan future Committee activity.

Members of the public are entitled to submit written comments. The comments must be received in the Western Regional Office by February 5, 2012. The mailing address is Western Regional Office, U.S. Commission on Civil Rights, 300 N. Los Angeles St., Suite 2010, Los Angeles, CA 90012. Persons wishing to email their comments may do so to atrevino@usccr.gov. Persons that desire additional information should contact Angelica Trevino, Administrative Assistant, Western Regional Office, at (213) 894-3437.

Hearing-impaired persons who will attend the meeting and require the services of a sign language interpreter should contact the Regional Office at least ten (10) working days before the scheduled date of the meeting.

Records generated from this meeting may be inspected and reproduced at the Western Regional Office, as they become available, both before and after the meeting. Persons interested in the work of this advisory committee are advised to go to the Commission's Web site, www.usccr.gov, or to contact the Western Regional Office at the above email or street address.

The meeting will be conducted pursuant to the provisions of the rules and regulations of the Commission and FACA.

Dated in Washington, DC, December 19, 2011.
Peter Minarik,
Acting Chief, Regional Programs Coordination Unit.

[FR Doc. 2011-32797 Filed 12-21-11; 8:45 am]

BILLING CODE 6335-01-P